DEPARTMENT OF TRANSPORTATION

Federal Aviation Administration

14 CFR Part 39

[Docket No. 2002-SW-09-AD; Amendment 39-12681; AD 2002-03-52]

RIN 2120-AA64

Airworthiness Directives; Eurocopter France Model AS350B, AS350BA, AS350B1, AS350B2, AS350B3, AS350C, AS350D, AS350D1, AS355E, AS355F, AS355F1, AS355F2, AS355N, and EC130 B4 Helicopters; Correction

AGENCY: Federal Aviation Administration, DOT.

ACTION: Final rule; correction.

SUMMARY: This document corrects Airworthiness Directive (AD) 2002-03-52 for the specified helicopters that was published in the Federal Register on March 20, 2002 (67 FR 12856). The AD contains a misspelled word and incomplete effective dates. In all other respects, the original document remains the same.

DATES: Effective April 4, 2002 to all persons except those persons to whom it was made immediately effective by Emergency AD 2002-03-52, issued on February 8, 2002, which contained the requirements of this amendment.

FOR FURTHER INFORMATION CONTACT: Gary Roach, Aviation Safety Engineer, FAA, Rotorcraft Directorate, Rotorcraft Standards Staff, Fort Worth, Texas 76193-0111, telephone (817) 222-5130, fax (817) 222-5961.

SUPPLEMENTARY INFORMATION: The FAA issued a final rule AD 2002-03-52 on March 11, 2002, (67 FR 12856, March 20, 2002) for the specified helicopters. The AD contains two errors. In the Supplementary Information, in the second sentence, a word is misspelled, “STAFFLEX” should be “STARFLEX.” Also, the effective dates listed both under the DATES caption of the AD and in paragraph (f) are incomplete and fail to make it clear that the effective date of the emergency AD, that was published in the Federal Register on March 20, 2002, was effective immediately to those persons that received it. Therefore, this needs to be clarified.

Since no other part of the regulatory information has been revised, the final rule is not being republished.

Correction of Publication

Accordingly, the publication on March 20, 2002 of the final regulations, which were the subject of FR Doc. 02-6627, is corrected as follows:

§ 39.13 [Corrected]

(1) On page 12856, under the DATES caption, correct “Effective April 4, 2002” to read “Effective April 4, 2002, to all persons except those persons to whom it was made immediately effective by Emergency AD 2002-03-52, issued on February 8, 2002, which contained the requirements of this amendment.”

(2) On page 12856, in the third column, under Supplementary Information in the second sentence, correct the word “STAFFLEX” to read “STARFLEX.”

(3) On page 12858, in the first column, paragraph (f), correct “This amendment becomes effective on April 4, 2002” to “This amendment becomes effective on April 4, 2002, to all persons except those persons to whom it was made immediately effective by Emergency AD 2002-03-52, issued February 8, 2002, which contained the requirements of this amendment.”

Issued in Fort Worth, Texas, on April 18, 2002.
Eric Bries,
Acting Manager, Rotorcraft Directorate, Aircraft Certification Service.

[FR Doc. 02-10532 Filed 5-1-02; 8:45 am]

BILLING CODE 4910-13-P